DEPARTMENT OF LABOR

Employment and Training Administration

[TA-W-74,628]

Di-Pro, Inc., a Subsidiary of Bendix-Spicer/Knorr-Bremse Bendix-Spicer Foundation Brake Including On-Site Leased Workers From Select, Act-1 and Pridestaff Fresno, CA; Amended Certification Regarding Eligibility To Apply for Worker Adjustment Assistance

In accordance with Section 223 of the Trade Act of 1974, as amended (“Act”), 19 U.S.C. 2273, the Department of Labor issued a Certification of Eligibility to Apply for Worker Adjustment Assistance on October 8, 2010, applicable to workers of Di-Pro, Inc., a subsidiary of Bendix-Spicer/Knorr-Bremse, including on-site leased workers from Select, Fresno, California. The notice was published in the Federal Register on October 25, 2010 (75 FR 65520).

At the request of a company official, the Department reviewed the certification for workers of the subject firm. The workers are engaged in activities related to the production of brake chambers and spring brakes for braking systems on air braked trucks, tractors and semi-trailers.

The company reports that workers leased from Act-1 and PrideStaff were employed on-site at the Fresno, California location of Di-Pro, Inc. The Department has determined that these workers were sufficiently under the control of Di-Pro, Inc., a subsidiary of Bendix-Spicer/Knorr-Bremse, Bendix-Spicer Foundation Brake to be considered leased workers.

Based on these findings, the Department is amending this certification to include workers leased from Act-1 and PrideStaff working on-site at the Fresno, California location of Di-Pro, Inc., a subsidiary of Bendix-Spicer/Knorr-Bremse, Bendix-Spicer Foundation Brake.

The amended notice applicable to TA-W-74,628 is hereby issued as follows:

All workers of Di-Pro, Inc., a subsidiary of Bendix-Spicer/Knorr-Bremse, Bendix-Spicer Foundation Brake, including on-site leased workers from Select, Act-1 and PrideStaff, Fresno, California, who became totally or partially separated from employment on or after September 9, 2009, through October 8, 2012, and all workers in the group threatened with total or partial separation from employment on the date of certification through two years from the date of certification, are eligible to apply for adjustment assistance under Chapter 2 of Title II of the Trade Act of 1974, as amended.

Signed at Washington, DC, this 18th day of November 2010.
Michael W. Jaffe,
Certifying Officer, Division of Trade Adjustment Assistance.

[FR Doc. 2010-30549 Filed 12-6-10; 8:45 am]

BILLING CODE 4510-FN-P